DEPARTMENT OF ENERGY

Federal Energy Regulatory Commission

Combined Notice Of Filings #1

Take notice that the Commission received the following electric rate filings:

Docket Numbers: ER10-2898-003

Applicants: Utility Contract Funding II,LLC.

Description: Utility Contract Funding II,LLC. submits tariff filing per 35: MBR Tariff to be effective 9/23/2011.

Filed Date: 09/23/2011.

Accession Number: 20110923-5139.

Comment Date: 5 p.m. Eastern Time on Friday, October 14, 2011.

Docket Numbers: ER10-2899-003.

Applicants: South Eastern Electric Development Corp.

Description: South Eastern Electric Development Corp. submits tariff filing per 35: MBR Tariff to be effective 9/23/2011.

Filed Date: 09/23/2011.

Accession Number: 20110923-5138.

Comment Date: 5 p.m. Eastern Time on Friday, October 14, 2011.

Docket Numbers: ER10-2900-003.

Applicants: South Eastern Generating Corp.

Description: South Eastern Generating Corp. submits tariff filing per 35: MBR Tariff to be effective 9/23/2011.

Filed Date: 09/23/2011.

Accession Number: 20110923-5137.

Comment Date: 5 p.m. Eastern Time on Friday, October 14, 2011.

Docket Numbers: ER10-2906-003.

Applicants: Morgan Stanley Capital Group Inc.

Description: Morgan Stanley Capital Group Inc. submits tariff filing per 35: MBR Tariff to be effective 9/23/2011.

Filed Date: 09/23/2011.

Accession Number: 20110923-5126.

Comment Date: 5 p.m. Eastern Time on Friday, October 14, 2011.

Docket Numbers: ER10-2908-003.

Applicants: MS Solar Solutions Corp.

Description: MS Solar Solutions Corp. submits tariff filing per 35: MBR Tariff to be effective 9/23/2011.

Filed Date: 09/23/2011.

Accession Number: 20110923-5128.

Comment Date: 5 p.m. Eastern Time on Friday, October 14, 2011.

Docket Numbers: ER10-2909-003.

Applicants: Power Contract Financing II, Inc.

Description: Power Contract Financing II, Inc. submits tariff filing per 35: MBR Tariff to be effective 9/23/2011.

Filed Date: 09/23/2011.

Accession Number: 20110923-5134.

Comment Date: 5 p.m. Eastern Time on Friday, October 14, 2011.

Docket Numbers: ER10-2910-003.

Applicants: Power Contract Financing II,LLC.

Description: Power Contract Financing II, LLC. submits tariff filing per 35: MBR Tariff to be effective 9/23/2011.

Filed Date: 09/23/2011.

Accession Number: 20110923-5136

Comment Date: 5 p.m. Eastern Time on Friday, October 14, 2011.

Docket Numbers: ER10-2911-003

Applicants: Naniwa Energy LLC

Description: Naniwa Energy LLC submits tariff filing per 35: MBR Tariff to be effective 9/23/2011.

Filed Date: 09/23/2011.

Accession Number: 20110923-5129.

Comment Date: 5 p.m. Eastern Time on Friday, October 14, 2011.

Docket Numbers: ER11-4615-000.

Applicants: Snapping Shoals Electric Membership Cooperative.

Description: Snapping Shoals Electric Membership Cooperative submits notice of cancellation of FERC Electric Tariff, effective 8/8/05.

Filed Date: 09/22/2011.

Accession Number: 20110923-0201

Comment Date: 5 p.m. Eastern Time on Thursday, October 13, 2011.

Docket Numbers: ER11-4616-000.

Applicants: PacifiCorp.

Description: PacifiCorp submits tariff filing per 35.13(a)(2)(iii: OATT Revised Attachment C to be effective 4/1/2011.

Filed Date: 09/23/2011.

Accession Number: 20110923-5070.

Comment Date: 5 p.m. Eastern Time on Friday, October 14, 2011.

Docket Numbers: ER11-4617-000

Applicants: PJM Interconnection, LLC.

Description: PJM Interconnection,LLC. submits tariff filing per 35.13(a)(2)(iii: PJM Queue # U2-073—Original Service Agreement No. 3058 to be effective 8/24/2011.

Filed Date: 09/23/2011.

Accession Number: 20110923-5085.

Comment Date: 5 p.m. Eastern Time on Friday, October 14, 2011.

Docket Numbers: ER11-4618-000.

Applicants: White Pine Electric Power.

Description: White Pine Electric Power submits tariff filing per 35.1: Market-Based Rate Tariff Baseline to be effective 9/23/2011.

Filed Date: 09/23/2011.

Accession Number: 20110923-5086

Comment Date: 5 p.m. Eastern Time on Friday, October 14, 2011.

Docket Numbers: ER11-4619-000.

Applicants: Florida Power & Light Company.

Description: Florida Power & Light Company submits tariff filing per 35.13(a)(2)(iii: FPL and Wauchula Original Service Agreement No. 299 to be effective 10/1/2011.

Filed Date: 09/23/2011.

Accession Number: 20110923-5088.

Comment Date: 5 p.m. Eastern Time on Friday, October 14, 2011.

Docket Numbers: ER11-4620-000.

Applicants: Idaho Power Company.

Description: Idaho Power Company's Notice of Cancellation of Service Agreements 153, 154, 155, and 159.

Filed Date: 09/22/2011.

Accession Number: 20110922-5137

Comment Date: 5 p.m. Eastern Time on Thursday, October 13, 2011.

Docket Numbers: ER11-4621-000.

Applicants: New York Independent System Operator, Inc., Niagara Mohawk Power Corporation.

Description: New York Independent System Operator, Inc. submits tariff filing per 35.13(a)(2)(iii: LGIA Among NYISO, NiMo, NYSEG and Nine Mile Point to be effective 9/8/2011.

Filed Date: 09/23/2011.

Accession Number: 20110923-5100.

Comment Date: 5 p.m. Eastern Time on Friday, October 14, 2011.

Docket Numbers: ER11-4622-000.

Applicants: NorthWestern Corporation.

Description: Report/Form of NorthWestern Corporation—Average System Cost Filing, FY 2012-13.

Filed Date: 09/23/2011.

Accession Number: 20110923-5109.

Comment Date: 5 p.m. Eastern Time on Friday, October 14, 2011.

Docket Numbers: ER11-4623-000.

Applicants: Black Oak Capital, LLC.

Description: Black Oak Capital, LLC submits tariff filing per 35.1: Black Oak Capital, LLC MBR Re-File to be effective 9/23/2011.

Filed Date: 09/23/2011.

Accession Number: 20110923-5115.

Comment Date: 5 p.m. Eastern Time on Friday, October 14, 2011.

Docket Numbers: ER11-4624-000.

Applicants: Katmai Energy, LLC.

Description: Katmai Energy, LLC submits tariff filing per 35.1: Katmai Energy, LLC MBR Re-File to be effective 9/23/2011.

Filed Date: 09/23/2011.

Accession Number: 20110923-5116.

Comment Date: 5 p.m. Eastern Time on Friday, October 14, 2011.

Docket Numbers: ER11-4625-000.

Applicants: Colton Power LP.

Description: Colton Power LP. submits tariff filing per 35.1: Colton Power L.P. MBR Electronic Baseline Tariff to be effective 9/23/2011.

Filed Date: 09/23/2011.

Accession Number: 20110923-5117.

Comment Date: 5 p.m. Eastern Time on Friday, October 14, 2011.

Docket Numbers: ER11-4626-000.

Applicants: Mt. Poso Generation Company, LLC.

Description: Mt. Poso Generation Company, LLC submits tariff filing per 35.12: Application for Market-Based Rate Authority to be effective 9/23/2011.

Filed Date: 09/23/2011.

Accession Number: 20110923-5118.

Comment Date: 5 p.m. Eastern Time on Friday, October 14, 2011.

Docket Numbers: ER11-4627-000.

Applicants: Fairchild Energy, LLC.

Description: Fairchild Energy, LLC submits tariff filing per 35.1: FERC MBR Electric Tariff Filing to be effective 9/23/2011.

Filed Date: 09/23/2011.

Accession Number: 20110923-5124.

Comment Date: 5 p.m. Eastern Time on Friday, October 14, 2011.

Docket Numbers: ER11-4628-000.

Applicants: PJM Interconnection,LLC.

Description: PJM Interconnection,LLC. submits tariff filing per 35.13(a)(2)(iii: Revisions to the PJM Tariff, OA and RAA re Price Responsive Demand to be effective 12/15/2011.

Filed Date: 09/23/2011.

Accession Number: 20110923-5125.

Comment Date: 5 p.m. Eastern Time on Friday, October 14, 2011.

Docket Numbers: ER11-4629-000.

Applicants: Castlebridge Energy Group LLC.

Description: Castlebridge Energy Group LLC submits tariff filing per 35.1: Castlebridge Energy Group LLC MBR Re-File to be effective 9/23/2011.

Filed Date: 09/23/2011.

Accession Number: 20110923-5135.

Comment Date: 5 p.m. Eastern Time on Friday, October 14, 2011.

Docket Numbers: ER11-4630-000.

Applicants: PJM Interconnection,LLC.

Description: PJM Interconnection,LLC. submits tariff filing per 35.13(a)(2)(iii: Revisions to Section 7.2 of the PJM Operating Agreement to be effective 11/22/2011.

Filed Date: 09/23/2011.

Accession Number: 20110923-5140.

Comment Date: 5 p.m. Eastern Time on Friday, October 14, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 26, 2011.
Nathaniel J. Davis, Sr.,
Deputy Secretary.

[FR Doc. 2011-26275 Filed 10-11-11; 8:45 am]

BILLING CODE 6717-01-P